DEPARTMENT OF VETERANS AFFAIRS

Advisory Committee on Former Prisoners of War; Notice of Meeting

The Department of Veterans Affairs gives notice under Public Law 92-463 (Federal Advisory Committee Act) that the Advisory Committee on Former Prisoners of War has scheduled a meeting on November 2-4, 2009, at the Department of Veterans Affairs Regional Office, 5460 Reno Corporate Drive, Reno, Nevada, from 9 a.m. to 4 p.m. each day. The meeting is open to the public.

The purpose of the Committee is to advise the Secretary of Veterans Affairs on the administration of benefits under title 38, United States Code, for Veterans who are former prisoners of war, and to make recommendations on the needs of such Veterans for compensation, health care, and rehabilitation.

On November 2, the Committee will receive remarks from VA officials and tour the VA Regional office. In the afternoon, a town hall meeting will be held at the VA Regional Office to hear from former prisoners of war. On November 3, the Committee will receive updates on the report from the Robert E. Mitchell Center for Prisoners of War Studies, educational programs, Veterans Health Administration and discuss the Committee's recommendations and VA responses. In the afternoon, the Committee will continue a tour of the VA Regional Office. On November 4, the Committee's Medical and Administrative Working Groups will complete their interim report for the Committee's final report. In the afternoon, the Committee will work on its first draft of its final report.

Members of the public may attend the town hall meeting and may also submit written statements for review by the Committee in advance of the meeting to Mr. Bradley G. Mayes, Director, Compensation and Pension Service, Department of Veterans Affairs, 810 Vermont Avenue, NW., Washington, DC 20420, or to Ms. Carolyn Bryant at Carolyn.bryant@va.gov.

Dated: October 14, 2009.
By Direction of the Secretary.
Vivian Drake,
Acting Committee Management Officer.

[FR Doc. E9-25273 Filed 10-20-09; 8:45 am]

BILLING CODE 8320-01-P